DEPARTMENT OF LABOR

Office of the Secretary

Secretary's Order 2-2002; Delegation of Authorities and Assignment of Responsibilities to the Assistant Secretary for Policy

1. Purpose

To define and delegate authorities and responsibilities to the Assistant Secretary for Policy.

2. Authorities and Directives Affected

a. Authorities

This Order is issued pursuant to 29 U.S.C. 551 et seq.; 5 U.S.C. 301; 5 U.S.C. 5315; the Regulatory Flexibility Act, as amended by the Small Business Regulatory Enforcement Fairness Act [see 5 U.S.C. 601 et seq. and 15 U.S.C. 657]; the Federal Advisory Committee Act [5 U.S.C. App.]; General Services Administration regulations governing Federal Advisory Committee management (41 C.F.R. 102-3, Subpart A); Executive Order 12838, “Termination and Limitation of Federal Advisory Committees” (February 10, 1993); Executive Order 12866, “Regulatory Planning and Review” (September 30, 1993), as amended by Executive Order 13258 (February 26, 2002); Executive Order 13272, “Proper Consideration of Small Entities in Agency Rulemaking” (August 13, 2002); and Office of Management and Budget Circular A-135, “Management of Federal Advisory Committees” (October 5, 1994).

b. Directives Affected

(1) This Order does not affect the authorities and responsibilities assigned by any other Secretary's Order, unless otherwise expressly so provided in this or another Order.

(2) Secretary's Order 2-82, which delegated authority and assigned responsibilities to the Assistant Secretary for Policy (OASP), is cancelled.

(3) This Order does not affect Secretary's Order 2-2000, which establishes policy and assigns responsibilities for the development, implementation, institutionalization, and continuing support of Department of Labor public Internet services.

(4) This Order does not affect the procurement and contracting authority of the Assistant Secretary for Administration and Management. (see Secretary's Order 4-76.)

3. Background

The Office of the Assistant Secretary for Policy (OASP) has traditionally provided advice and assistance to the Secretary and Deputy Secretary in a number of areas, including policy development, program implementation, program evaluations, research, budget and performance analysis, and legislative and other policy support. The Secretary of Labor advises the President and represents the Department of Labor (DOL or Department) in Cabinet deliberations dealing with significant and complex issues of, e.g., a scientific, financial, and statistical nature, particularly as these issues have an impact on the welfare of the American workforce. The accelerating rate of technological and economic change compels the availability to the Secretary of a cadre of skilled analysts who can respond quickly to urgent policy matters. Thus, this Order refocuses OASP's role to provide support, analysis, and advice to the Secretary and Deputy Secretary on policy, programmatic, technical, regulatory, and compliance assistance issues.

This Order also compiles current OASP responsibilities and delineates additional responsibilities, including institutionalization of the Office of Economic Policy and Analysis, the Office of Regulatory Policy, the Office of Programmatic Policy, and the Office of Research and Technology Policy. The Order also addresses OASP's role with respect to the Policy Planning Board (see Secretary's Order 3-2002); the management of compliance with the Federal Advisory Committee Act and related laws and regulations; the requirements of the Regulatory Flexibility Act, as amended by the Small Business Regulatory Enforcement Fairness Act (SBREFA); the coordination and management of the overall DOL public web site presence; and the administration of the DOL Working Partners for an Alcohol and Drug-Free Workplace program.

Finally, this Order and concurrently issued Secretary's Order 4-2002 (Office of Small Business Programs) substantially consolidate and restructure the Department's compliance assistance programs and enhance its outreach efforts. Compliance assistance has become an essential and integral part of how the Department conducts its business and fulfills its mission. In order to avert and deter violations of wage, safety, employee benefits, and other laws that it administers, the Department must offer strong, effective compliance assistance programs. Employers and employees must have access to clear, accurate, and understandable information on achieving compliance with laws under the Department's jurisdiction. This Order consequently establishes the position of Chief Compliance Assistance Officer within OASP and also assigns to OASP the responsibility of assuring the Department's full, effective, and resourceful implementation of compliance assistance initiatives.

4. Delegation of Authorities and Assignment of Responsibilities

a. The Assistant Secretary for Policy is delegated authority and assigned responsibility for:

(1) Advising the Secretary and Deputy Secretary and supervising the preparation of studies, analyses, public statements and other policy statements with respect to the Secretary's duties in the areas of policy and economic policy formulation, including the impact of Departmental policies and programs on general economic policy.

(2) Consistent with Secretary's Order 3-2002, providing analytic and administrative leadership and support for the Department's Policy Planning Board.

(3) Establishing the following offices and positions within OASP:

(a) An Office of Compliance Assistance, to be headed by a Chief Compliance Assistance Officer, which will implement, manage, and coordinate Departmental compliance assistance policies, initiatives and programs, including Department-wide cross-cutting initiatives.

(b) An Office of Economic Policy and Analysis, to be headed by a Chief Economist, which will implement, manage, and coordinate Departmental economic policy and analysis.

(c) An Office of Regulatory Policy, to be headed by a Director, which will implement, manage, and coordinate Departmental regulatory policy.

(d) An Office of Programmatic Policy, to be headed by a Director, which will implement, manage, and coordinate Departmental programmatic policy.

(e) An Office of Research and Technology Policy, to be headed by a Director, which will implement, manage, and coordinate Departmental research and technology policy.

(4) Providing the analytical support required by the Secretary, Deputy Secretary, and Policy Planning Board with respect to policy issues and trends which require economic analyses or other expertise, including:

(a) Providing analysis of issues in the macroeconomic and microeconomic policy areas.

(b) Preparing recommendations and analyses with respect to long- and short-term economic trends, preparing economic studies and analyses related to the formulation of policy, and preparing economic analyses relating to economic impact of Departmental policies, regulations, and programs on general administration policy within the United States.

(5) In consultation with the Office of the Solicitor, representing the Secretary in a variety of forums attended by officials in the government and with appropriate outside parties and maintaining continuous and personal liaison with those groups and the White House on matters involving policy, Departmental programs, economic issues, regulations, or compliance assistance.

(6) Reviewing cross-cutting activities within the Department as they pertain to the Secretary's broader policy functions, including Government Performance Results Act and other Departmental reports, budget and legislative proposals, and Congressional reports, and coordinating selected reports to OMB and other agencies.

(7) Conducting appropriate research and evaluation activities in accord with the Secretary's selected priorities within the Department.

(8) In consultation with the Office of the Solicitor, and primarily through the Office of Compliance Assistance, providing general oversight of, and guidance for, the Department's compliance with the Regulatory Flexibility Act, as amended by SBREFA, and related laws (including EO 12866, EO 13272, or equivalent executive orders), including such activities as:

(a) Developing and implementing the written Departmental policies and procedures concerning the potential impact of draft rules on small entities, as required by Section 3(a) of EO 13272.

(b) Providing analysis, guidance, review, and technical assistance, as necessary, to program agencies which are preparing required studies such as regulatory impact and flexibility studies.

(c) Providing guidance and technical assistance, as necessary, to program agencies during the Small Business Advocacy Review Panel process (if applicable).

(d) Preparing, coordinating, and reviewing the Department's Semi-Annual Regulatory Agenda.

(e) In coordination with the Office of Small Business Programs, acting as the Department's liaison with the Small Business Administration (SBA), including SBA's Chief Counsel for Advocacy under SBREFA.

(f) Consistent with Secretary's Order 3-2002, providing analysis for the Policy Planning Board.

(9) In consultation with the Office of the Solicitor, ensuring that the Department meets the requirements for advisory committee operations set forth in the Federal Advisory Committee Act, as well as related laws, regulations, and guidance, by

(a) Serving as the Department's Advisory Committee Management Officer.

(b) Coordinating with DOL Agency Heads and the White House Liaison on the appointment of individuals to advisory committees.

(c) Providing administrative oversight and direction for the Department's advisory committees to assure that requirements are met regarding charters, membership notice, conduct, planning, reporting, and termination of committee operations.

(10) Consistent with DOL Secretary's Order 2-2000, coordinating and managing the overall public web site presence to ensure that web site-based information and services are cohesive, accessible, timely, accurate, and authoritative.

(11) Administering the Department's Working Partners for an Alcohol and Drug-Free Workplace Program and its Small Business initiative.

(12) Coordinating and consulting, as appropriate, with other DOL agencies in fulfilling the above responsibilities.

(13) Performing any additional or similar duties which may be assigned by the Secretary.

b. The Assistant Secretary for Administration and Management is delegated authority and assigned responsibility for:

(1) Ensuring that any transfer of budgetary resources arising from this Order is fully consistent with the established requirements of the Department and that consultation and negotiation, as appropriate, with representatives of any employees affected by this exchange of responsibilities are conducted.

(2) Ensuring that appropriate administrative and management support is furnished, as required, for the efficient and effective operation of these programs.

c. The Solicitor of Labor is responsible for providing legal advice and assistance to all Department of Labor officials relating to implementation and administration of all aspects of this Order.

d. DOL Agency heads are responsible for coordinating with OASP on policies and activities relating to the mission of their respective agencies, including:

(1) In consultation with the Office of the Solicitor, fulfilling the requirements of the Regulatory Flexibility Act, as amended by SBREFA, and related laws, including appropriate coordination with small entities in the development of rules, production of plain language compliance guides, and responding to requests for information.

(2) In consultation with the Office of the Solicitor, implementing the requirements of the Federal Advisory Committee Act, and related laws, regulations and guidance for all committees within their jurisdiction.

(3) Ensuring that reports concerning degree of achievement of the above objectives are accurate and submitted in a timely manner.

5. Reservation of Authority and Responsibility

a. The submission of reports and recommendations to the President and the Congress concerning the administration of statutory or administrative provisions is reserved to the Secretary.

b. This Secretary's Order does not affect the authorities or responsibilities of the Office of Inspector General under the Inspector General Act of 1978, as amended, or under Secretary's Order 2-90 (January 31, 1990).

6. Redelegation/Reassignment of Authority

All authorities and responsibilities enumerated in this Order may be redelegated or reassigned within OASP.

7. Effective Date

This Order is effective immediately.

Dated: October 10, 2002.
Elaine L. Chao,
Secretary of Labor.

[FR Doc. 02-26739 Filed 10-21-02; 8:45 am]

BILLING CODE 4510-23-P